FEDERAL COMMUNICATIONS COMMISSION

[Report No. 2860]

Petition for Reconsideration of Action in Rulemaking Proceeding

April 7, 2008.

A Petition for Reconsideration has been filed in the Commission's Rulemaking proceeding listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to this petition must be filed by April 29, 2008. See Section 1.4(b)(1) of the Commission's rules (47 CFR 1.4(b)(1)). Replies to an opposition must be filed within 10 days after the time for filing oppositions has expired.

Subject: In the Matter of Telephone Number Requirements for IP-Enabled Services Providers (WC Docket No. 07-243)

Local Number Portability Porting Interval and Validation Requirements (WC Docket No. 07-244).

IP-Enabled Services (WC Docket No. 04-36).

Telephone Number Portability (CC Docket No. 95-116).

Numbering Resource Optimization (CC Docket No. 99-200).

Number of Petitions Filed: 1.

Marlene H. Dortch,
Secretary.

[FR Doc. E8-7881 Filed 4-11-08; 8:45 am]

BILLING CODE 6712-01-P